DEPARTMENT OF STATE

[Public Notice: 12044]

Notice of Shipping Coordinating Committee Meeting in Preparation for International Maritime Organization MSC 107 Meeting

The Department of State will conduct a public meeting of the Shipping Coordinating Committee at 10:00 a.m. on Monday, May 22, 2023, both in-person at Coast Guard Headquarters and via teleconference. The primary purpose of the meeting is to prepare for the one-hundred seventh session of the International Maritime Organization's (IMO) Maritime Safety Committee (MSC 107) to be held at IMO Headquarters in London, United Kingdom from Wednesday, May 31, 2023 to Friday June 9, 2023.

Members of the public may participate up to the capacity of the teleconference phone line, which can handle 500 participants or up to the seating capacity of the room if attending in person. The meeting location will be the United States Coast Guard Headquarters, Ray Evans Conference Center, Section A, and the teleconference line will be provided to those who RSVP. To RSVP, participants should contact the meeting coordinator, LCDR Jessica Anderson, by email at jessica.p.anderson@uscg.mil. LCDR Anderson will provide access information for in-person and virtual attendance.

The agenda items to be considered by the advisory committee at this meeting mirror those to be considered at MSC 107, and include:

• Opening of the session

• Adoption of the agenda; report on credentials

• Decisions of other IMO bodies

• Consideration and adoption of amendments to mandatory instruments

• Goal-based new ship construction standards

• Development of a goal-based instrument for Maritime Autonomous Surface Ships (MASS)

• Development of further measures to enhance the safety of ships relating to the use of fuel oil

• Measures to enhance maritime security

• Piracy and armed robbery against ships

• Unsafe mixed migration by sea

• Formal safety assessment

• Carriage of cargoes and containers (Report of the eighth session of the Sub-Committee)

• Human element, training and watchkeeping (Report of the ninth session of the Sub-Committee)

• Ship systems and equipment (Report of the ninth session of the Sub-Committee)

• Navigation, communications and search and rescue (Urgent matters emanating from the tenth session of the Sub-Committee)

• Application of the Committee's method of work

• Work programme

• Election of the Chair and Vice-Chair for 2024

• Any other business

Please note: the IMO may, on short notice, adjust the MSC 107 agenda to accommodate the constraints associated with the meeting format. Any changes to the agenda will be reported to those who RSVP.

Those who plan to participate should contact the meeting coordinator, LCDR Jessica Anderson, by email at Jessica.P.Anderson@uscg.mil, or in writing at 2703 Martin Luther King Jr. Ave. SE, Stop 7509, Washington, DC 20593-7509 no later than May 17, 2023. Please note that, due to security considerations, two valid, government issued photo identifications must be presented to gain entrance to the Douglas A. Munro Coast Guard Headquarters Building at St. Elizabeth's. This building is accessible by taxi, public transportation, and privately owned conveyance (upon request). Additionally, members of the public needing reasonable accommodation should advise the meeting coordinator not later than May 17, 2023. Requests made after that date will be considered but might not be possible to fulfill.

Additional information regarding this and other IMO public meetings may be found at: https://www.dco.uscg.mil/IMO.

(Authority: 22 U.S.C. 2656 and 5 U.S.C. 1009.)

Emily A. Rose,
Executive Secretary, Shipping Coordinating Committee, Office of Ocean and Polar Affairs, Department of State.

[FR Doc. 2023-08016 Filed 4-14-23; 8:45 am]

BILLING CODE 4710-09-P